DEPARTMENT OF THE INTERIOR

Fish and Wildlife Service

Information Collection To Be Submitted to the Office of Management and Budget (OMB) for Approval Under the Paperwork Reduction Act; Federal Regional Council Application, Nomination, and Interview Forms

AGENCY: Fish and Wildlife Service, Interior.

ACTION: Notice; request for comments.

SUMMARY: The U.S. Fish and Wildlife Service will submit the collection of information listed below to OMB for approval under the provisions of the Paperwork Reduction Act. If you wish to obtain copies of the proposed information collection requirement, related forms, and explanatory material, contact the Service Information Collection Clearance Officer at the address listed below.

DATES: We will accept comments until February 18, 2003.

ADDRESSES: Send your comments on the requirement to Office of Management and Budget, Office of Regulatory Affairs, Attention: Department of the Interior Desk Officer, 725 17th Street, NW., Washington, DC 20503, and to Anissa Craghead, Information Collection Clearance Officer, U.S. Fish and Wildlife Service, ms 222-ARLSQ, 4401 N. Fairfax Drive, Arlington, VA 22203, (705) 358-2445.

FOR FURTHER INFORMATION CONTACT: To request a copy of the information collection request, explanatory information and related forms, contact Anissa Craghead at (703) 358-2445, or electronically to anissa_craghead@fws.gov.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The U.S. Fish and Wildlife Service (We) plan to submit a request to OMB for approval of the collection of information related to the recruitment of Federal Subsistence Advisory Council members. We are requesting a 3-year term of approval for this information collection activity.

Federal agencies may not conduct or sponsor, and a person is not required to respond to, a collection of information unless it displays a currently valid OMB control number.

Title VIII of the Alaska National Interest Lands Conservation Act (16 U.S.C. 3101) designates the Departments of the Interior and Agriculture as the key agencies responsible for implementing the subsistence priority on Federal public lands for rural Alaska residents. These responsibilities include the establishment of Regional Advisory Councils with members from each region who are knowledgeable about the region and subsistence uses of the public lands. In order for the Federal Board to make recommendations to the Secretaries for membership on these Regional Councils, it is necessary to recruit and screen applicants. These three associated forms allow the Federal Subsistence Board to recruit applicants and to review their credentials in order to make recommendations to the Secretaries for appointment of members to the Regional Councils. One-third of the seats on the Regional Councils become vacant each year. Additional vacancies may occur due to resignations or deaths of sitting members.

On October 29, 2002, we published in the Federal Register (67 FR 65993) a notice informing the public that we are submitting the three forms described below to OMB for approval under the Paperwork Reduction Act. We included the forms, in their entirety, in that notice. We requested public comment on the forms for 60 days, ending December 30, 2002. By that date, we received two comments. The comments raised several issues that are not relevant to the forms. The comments that are relevant to the forms suggest that we: (1) Elaborate on our “criteria for membership”; (2) ask applicants and nominees to identify all groups—instead of just the primary group—that they feel they would represent if they were selected to be Council members; (3) require a letter of recommendation for each applicant; and (4) ask applicants and nominees to identify potential conflicts of interest (such as a loyalty or interest that would supercede the needs of the entire region) if they were selected to sit on the Council. We are not making any changes to our submission to OMB based on these comments. We believe that, in the case of item (1), our criteria for membership list appropriate minimum qualifications for applicants and nominees to the Council. Further, in the case of items (2) through (4), we believe that requesting additional information from an applicant or nominee is an unnecessary burden. The detailed qualifications and interests of individuals applying or nominated for a position on the Council will be evident in their responses to questions on the application or nomination forms and during the candidate evaluation interviews.

Title: Federal Subsistence Regional Advisory Council Membership Application Form.

Form number: 7-FW 4.

Approval Number: 1018-XXXX.

Frequency of Collection: Annually.

Description of Respondents: Alaska residents.

Total Annual Burden Hours: We estimate the reporting burden to average 0.5 hours per respondent. With an estimated 120 applicants annually, the estimated total annual burden hours is 60 hours.

Total Annual Responses: We expect about 120 applications to be submitted annually.

Title: Federal Subsistence Regional Advisory Council Membership Nomination Form.

Form number: 7-FW 5.

Approval Number: 1018-XXXX.

Frequency of Collection: Annually.

Description of Respondents: Local governments, Tribal organizations, and special interest groups.

Total Annual Burden Hours: We estimate the reporting burden to average 0.5 hours per respondent. With an estimated 50 nominations annually, the estimated total annual burden hours is 25 hours.

Total Annual Responses: We expect about 50 nominations to be submitted annually.

Title: Regional Advisory Council Member Evaluation—Candidate Interview Form.

Form number: 7-FW 6.

Approval Number: 1018-XXXX.

Frequency of Collection: Annually.

Description of Respondents: Alaska residents.

Total Annual Burden Hours: We estimate the reporting burden to average 0.5 hours per interview. We will conduct 5 interviews per applicant or nominee. Therefore, with an estimated 170 applicants/nominees, the estimated total annual burden hours is 425 hours.

Total Annual Responses: We expect to conduct about 850 interviews annually.

Note: The total annual burden hours estimated in this notice differ from the total annual burden hours we provided in the notice published in the Federal Register on October 29, 2002. In the previous notice, we neglected to include the burden hours associated with interviewing nominees for Council positions. Therefore, our corrected estimate is 250 hours greater than our previous estimate.

We again invite comments concerning this proposed information collection on: (1) Whether the collection of information is necessary for the proper selection of Regional Council members, including whether the information will have practical utility; (2) the accuracy of our estimate of the burden of the collection of information; (3) ways to enhance the quality, utility, and clarity of the information to be collected; and, (4) ways to minimize the burden of the collection of information on respondents. The information collections in this program are part of a system of record covered by the Privacy Act (5 U.S.C. 552(a)).

Dated: January 13, 2003.
Anissa Craghead,
Information Collection Officer, Fish and Wildlife Service.

[FR Doc. 03-942 Filed 1-15-03; 8:45 am]

BILLING CODE 4310-55-P